DEPARTMENT OF THE INTERIOR

Minerals Management Service

Outer Continental Shelf (OCS) Policy Committee of the Minerals Management Advisory Board; Notice and Agenda for Meeting

AGENCY: Minerals Management Service, Interior.

ACTION: Notice of meeting.

SUMMARY: The OCS Policy Committee of the Minerals Management Advisory Board will meet at the Radisson Hotel Old Town in Alexandria, Virginia.

DATES: Tuesday, May 13, 2003, from 8:30 a.m. to 5 p.m. and Wednesday, May 14, 2003, from 8:30 a.m. to 3:30 p.m.

ADDRESSES: The Radisson Hotel Old Town, 901 North Fairfax Street, Alexandria, Virginia 22314, telephone (703) 683-6000.

FOR FURTHER INFORMATION CONTACT: Ms. Jeryne Bryant at Minerals Management Service, 381 Elden Street, Mail Stop 4001, Herndon, Virginia 20170-4187. She can be reached by telephone at (703) 787-1211 or by electronic mail at jeryne.bryant@mms.gov.

SUPPLEMENTARY INFORMATION: The OCS Policy Committee represents the collective viewpoint of coastal states, environmental interests, industry, and other parties involved with the OCS Program. It provides policy advice to the Secretary of the Interior through the Director of the MMS on all aspects of leasing, exploration, development, and protection of OCS resources.

The agenda for May 13 will cover the following principal subjects:

World Oil Scenario. This presentation will address the current state of the world's oil supply and demand; how it is affected by the world's political scenario and the barriers in reducing imports.

Gas Imports to Meet the Nation's Energy Demand. This presentation will address proposed liquefied natural gas ports, the Blue Atlantic Transmission System, and proposed regulatory changes.

Geosciences Data and Collections—National Resources in Peril. This presentation will address the National Research Council's report, Geosciences Data and Collections—National Resources in Peril.

States' Vision for the OCS Program. This presentation will address how the states deal with oil and gas and sand and gravel activities, and how MMS activities in the OCS affects the states.

Building Consensus. This presentation will address components of the consensus building process, an executive outline of the report, Moving Beyond Conflict to Consensus, and MMS's current rules

Coastal Zone Management Act. The presentation will discuss the roles of the Department of Commerce and the Department of the Interior, as directed in the National Energy Policy, for promoting energy-related activities in the coastal zone and on the OCS.

U.S. Commission on Ocean Policy. This presentation will provide an update on the draft recommendations of the U.S. Commission of Ocean Policy.

The agenda for May 14 will cover the following principal subjects:

Education and Outreach. This presentation will address the draft Education and Outreach Subcommittee report.

Hard Minerals Subcommittee Update. This presentation will provide an update on subcommittee activities and other pertinent hard minerals information.

OCS Scientific Committee Update. This presentation will provide an update on the activities of the Scientific Committee. It will also highlight the activities that are related to energy issues/concerns, ocean issues, hard mineral activities, and any other topics that are relevant to both Committees.

Congressional/Legislative Update. This presentation will provide an update on the status of current congressional issues related to the OCS Program.

MMS Environmental Research on Sperm Whales. The presentation will address “Cooperative Research on Sperm Whales and Their Response to Seismic Exploration in the Gulf of Mexico.”

National Research Council's North Slope Cumulative Effects Study. This presentation will address the cumulative effects study and its relevance to offshore oil and gas activities.

McCovey Project—Working with the Communities. This presentation will address EnCana's approach to working with the communities on the North Slope for the McCovey Project.

MMS Regional Updates. The Regional Directors will highlight activities off the California and Alaska coasts and the Gulf of Mexico.

The meeting is open to the public. Approximately 100 visitors can be accommodated on a first-come-first-served basis.

Upon request, interested parties may make oral or written presentations to the OCS Policy Committee. Such requests should be made no later than May 9, 2003, to Jeryne Bryant. Requests to make oral statements should be accompanied by a summary of the statement to be made. Please see FOR FURTHER INFORMATION CONTACT section for address and telephone number.

Minutes of the OCS Policy Committee meeting will be available for public inspection and copying at MMS in Herndon, Virginia.

Authority: Federal Advisory Committee Act, P.L. No. 92-463, 5 U.S.C. Appendix 1, and the Office of Management and Budget's Circular No. A-63, Revised.

Dated: April 28, 2003.
Thomas A. Readinger,
Associate Director for Offshore Minerals Management.

[FR Doc. 03-10777 Filed 4-30-03; 8:45 am]

BILLING CODE 4310-MR-P